DEPARTMENT OF COMMERCE

International Trade Administration

[A-570-909]

Certain Steel Nails From the People's Republic of China: Amended Final Results of the First Antidumping Duty Administrative Review

AGENCY: Import Administration, International Trade Administration, Department of Commerce.

DATES: Effective Date: April 26, 2011.

FOR FURTHER INFORMATION CONTACT: Emeka Chukwudebe or Matthew Renkey, AD/CVD Operations, Office 9, Import Administration, International Trade Administration, Department of Commerce, 14th Street and Constitution Avenue, NW., Washington, DC 20230; telephone: (202) 482-0219 or (202) 482-2312, respectively.

SUPPLEMENTARY INFORMATION:

Background

On March 23, 2011, the Department of Commerce (“Department”) published the final results of the first administrative review of the antidumping duty order on certain steel nails (“steel nails”) from the People's Republic of China (“PRC”).¹ Also on March 23, 2011, respondent Stanley ² filed a timely allegation that the Department made two ministerial errors in the Final Results and requested, pursuant to 19 CFR 351.224, that the Department correct the alleged ministerial errors. On March 28, 2011, Petitioner ³ submitted comments rebutting one of the errors alleged by Stanley. No other party in this proceeding submitted comments on the Department's final margin calculations. Based upon our analysis of the comments and allegations of ministerial errors, we have made changes to the margin calculations for Stanley, which in turn will also affect the margin for the separate-rate companies, as it was the only individually-reviewed respondent to receive a calculated rate.⁴

¹ See Certain Steel Nails From the People's Republic of China: Final Results of the First Antidumping Duty Administrative Review, 76 FR 16379 (March 23, 2011) (“Final Results”).

² The Stanley Works (Langfang) Fastening Systems Co., Ltd., the Stanley Works/Stanley Fastening Systems LP, and an unaffiliated wire drawing subcontractor are collectively referred to as “Stanley” in this administrative review.

³ Mid Continent Nail Corporation.

⁴ See Final Results, 76 FR at 16381-16382.

Scope of the Order

The merchandise covered by the order includes certain steel nails having a shaft length up to 12 inches. Certain steel nails include, but are not limited to, nails made of round wire and nails that are cut. Certain steel nails may be of one piece construction or constructed of two or more pieces. Certain steel nails may be produced from any type of steel, and have a variety of finishes, heads, shanks, point types, shaft lengths and shaft diameters. Finishes include, but are not limited to, coating in vinyl, zinc (galvanized, whether by electroplating or hot-dipping one or more times), phosphate cement, and paint. Head styles include, but are not limited to, flat, projection, cupped, oval, brad, headless, double, countersunk, and sinker. Shank styles include, but are not limited to, smooth, barbed, screw threaded, ring shank and fluted shank styles. Screw-threaded nails subject to this proceeding are driven using direct force and not by turning the fastener using a tool that engages with the head. Point styles include, but are not limited to, diamond, blunt, needle, chisel and no point. Finished nails may be sold in bulk, or they may be collated into strips or coils using materials such as plastic, paper, or wire. Certain steel nails subject to this proceeding are currently classified under the Harmonized Tariff Schedule of the United States (“HTSUS”) subheadings 7317.00.55, 7317.00.65 and 7317.00.75.

Excluded from the scope of this proceeding are roofing nails of all lengths and diameter, whether collated or in bulk, and whether or not galvanized. Steel roofing nails are specifically enumerated and identified in ASTM Standard F 1667 (2005 revision) as Type I, Style 20 nails. Also excluded from the scope of this proceeding are corrugated nails. A corrugated nail is made of a small strip of corrugated steel with sharp points on one side. Also excluded from the scope of this proceeding are fasteners suitable for use in powder-actuated hand tools, not threaded and threaded, which are currently classified under HTSUS 7317.00.20 and 7317.00.30. Also excluded from the scope of this proceeding are thumb tacks, which are currently classified under HTSUS 7317.00.10.00. Also excluded from the scope of this proceeding are certain brads and finish nails that are equal to or less than 0.0720 inches in shank diameter, round or rectangular in cross section, between 0.375 inches and 2.5 inches in length, and that are collated with adhesive or polyester film tape backed with a heat seal adhesive. Also excluded from the scope of this proceeding are fasteners having a case hardness greater than or equal to 50 HRC, a carbon content greater than or equal to 0.5 percent, a round head, a secondary reduced-diameter raised head section, a centered shank, and a smooth symmetrical point, suitable for use in gas-actuated hand tools.

While the HTSUS subheadings are provided for convenience and customs purposes, the written description of the scope of this proceeding is dispositive.

Amended Final Results of the Review

The Tariff Act of 1930, as amended (“Act”), defines a “ministerial error” as including “errors in addition, subtraction, or other arithmetic function, clerical errors resulting from inaccurate copying, duplication, or the like, and any other type of unintentional error which the administering authority considers ministerial.” See section 751(h) of the Act; see also 19 CFR 351.224(e). After analyzing Stanley's comments and Petitioner's rebuttal comments, we have determined that we made certain ministerial errors, as defined by section 751(h) of the Act, in our calculations for the Final Results.

First, we agree with Stanley that we made a ministerial error in the calculation of the surrogate financial ratios of Nasco Steel Pvt., Ltd. (“Nasco”), which were used in Stanley's margin calculation. Specifically, the Department inadvertently used the column for total depreciation from Schedule 4 of the financial statement, when we instead intended to use the column for depreciation during the fiscal year. Additionally, when reviewing the financial ratio calculations for Nasco to correct the above error, we also noted another inadvertent error in the calculation for the net change in inventory. Lastly, we disagree with Stanley's second ministerial error allegation, regarding whether net U.S. prices and normal value were calculated on the same weight basis. The Department's selection of denominators represents an intentional methodological choice consistent with the scope of the order and does not constitute a ministerial error within the context of section 751(h) of the Act or 19 CFR 351.224(f). For a detailed discussion of these ministerial errors, as well as the Department's analysis of these errors, see Memorandum to James C. Doyle, from Matthew Renkey, regarding “First Antidumping Duty Administrative Review of Certain Steel Nails from the People's Republic of China: Ministerial Error Memorandum,” dated concurrently with this notice.

Therefore, in accordance with section 751(h) of the Act and 19 CFR 351.224(e), we are amending the Final Results of the administrative review of certain steel nails from the PRC. Listed below are the revised weighted average dumping margins for these amended final results:

Exporter | Weighted average margin (percent)
1) Stanley | 10.63
2) Aironware (Shanghai) Co., Ltd | 10.63
3) Chiieh Yung Metal Ind. Corp. | 10.63
4) China Staple Enterprise (Tianjin) Co., Ltd | 10.63
5) Dezhou Hualude Hardware Products Co., Ltd | 10.63
6) Faithful Engineering Products Co., Ltd | 10.63
7) Hengshui Mingyao Hardware & Mesh Products Co., Ltd | 10.63
8) Huanghua Jinhai Hardware Products Co., Ltd | 10.63
9) Huanghua Xionghua Hardware Products Co., Ltd | 10.63
10) Jisco Corporation | 10.63
11) Koram Panagene Co., Ltd. | 10.63
12) Nanjing Yuechang Hardware Co., Ltd | 10.63
13) Qidong Liang Chyuan Metal Industry Co., Ltd | 10.63
14) Qingdao D & L Group Ltd. | 10.63
15) Romp (Tianjin) Hardware Co., Ltd | 10.63
16) Shandong Dinglong Import & Export Co., Ltd | 10.63
17) Shanghai Jade Shuttle Hardware Tools Co., Ltd | 10.63
18) Shouguang Meiqing Nail Industry Co., Ltd | 10.63
19) Tianjin Jinchi Metal Products Co., Ltd | 10.63
20) Tianjin Jinghai County Hongli Industry & Business Co., Ltd | 10.63
21) Tianjin Zhonglian Metals Ware Co., Ltd. | 10.63
22) Wintime Import & Export Corporation Limited of Zhongshan | 10.63
23) Zhejiang Gem-Chun Hardware Accessory Co., Ltd | 10.63

Disclosure

We will disclose the calculations performed for these amended final results within five days of the date of publication of this notice to interested parties in accordance with 19 CFR 351.224(b).

Assessment Rates

Upon issuance of the amended final results, the Department will determine, and U.S. Customs and Border Protection (“CBP”) shall assess, antidumping duties on all appropriate entries. The Department intends to issue assessment instructions to CBP 15 days after the date of publication of the amended final results of review, excluding any reported sales that entered during the gap period.⁵ Pursuant to 19 CFR 351.212(b)(1), we will calculate importer-specific (or customer-specific) ad valorem duty assessment rates based on the ratio of the total amount of the dumping margins calculated for the examined sales to the total entered value of those same sales. In accordance with 19 CFR 351.106(c)(2), we will instruct CBP to liquidate, without regard to antidumping duties, all entries of subject merchandise during the period of review for which the importer-specific assessment rate is zero or de minimis. For the companies receiving a separate rate that were not selected for individual review, we will calculate an assessment rate based on the simple average of the cash deposit rates calculated for the companies selected for individual review pursuant to section 735(c)(5)(B) of the Act.

⁵ The gap period represents the period of time after the expiration of the 180-day provisional measures period during the original investigation, to the day prior to the U.S. International Trade Commission's final determination. In the instant case, the gap period is July 22, 2008, to July 24, 2008.

Cash Deposit Requirements

The following cash deposit requirements will be effective retroactively on any entries made on or after March 23, 2011, the date of publication of the Final Results, for all shipments of the subject merchandise entered, or withdrawn from warehouse, for consumption on or after the publication date, as provided for by section 751(a)(2)(C) of the Act: (1) For the exporters listed above, the cash deposit rate will be established in the amended final results of this review (except, if the rate is zero or de minimis, i.e., less than 0.5 percent, no cash deposit will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 118.04 percent; and (4) for all non-PRC exporters of subject merchandise which have not received their own rate, the cash deposit rate will be the rate applicable to the PRC exporters that supplied that non-PRC exporter. These deposit requirements, when imposed, shall remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

These amended final results are published in accordance with sections 751(h) and 777(i)(1) of the Act.

Dated: April 18, 2011.
Ronald K. Lorentzen,
Deputy Assistant Secretary for Import Administration.

[FR Doc. 2011-10083 Filed 4-25-11; 8:45 am]

BILLING CODE 3510-DS-P